DEPARTMENT OF TRANSPORTATION

Federal Aviation Administration

14 CFR Part 39

[Docket No. FAA-2005-21027; Directorate Identifier 2005-NM-048-AD; Amendment 39-14070; AD 2005-09-02]

RIN 2120-AA64

Airworthiness Directives; Boeing Model 747 Series Airplanes

AGENCY: Federal Aviation Administration (FAA), Department of Transportation (DOT).

ACTION: Final rule; correction.

SUMMARY: The FAA is correcting a typographical error in an existing airworthiness directive (AD) that was published in the Federal Register on April 25, 2005 (70 FR 21141). The error resulted in omission of a reference to an inspection area. This AD applies to all Boeing Model 747 series airplanes. This AD requires repetitive inspections for cracking of the top and side panel webs and panel stiffeners of the nose wheel well (NWW), and corrective actions if necessary.

DATES: Effective May 10, 2005.

ADDRESSES: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-21027; the directorate identifier for this docket is 2005-NM-048-AD.

FOR FURTHER INFORMATION CONTACT: Nick Kusz, Airframe Branch, ANM-120S, FAA, Seattle Aircraft Certification Office, 1601 Lind Avenue, SW., Renton, Washington 98055-4056; telephone (425) 917-6432; fax (425) 917-6590.

SUPPLEMENTARY INFORMATION: On April 13, 2005, the FAA issued AD 2005-09-02, amendment 39-14070 (70 FR 21141, April 25, 2005), for all Boeing Model 747 series airplanes. This AD requires repetitive inspections for cracking of the top and side panel webs and panel stiffeners of the nose wheel well (NWW), and corrective actions if necessary.

As published, we inadvertently did not specify a certain area for a required inspection. Where paragraph (i) of the AD specifies “Do a UT inspection of the sidewall panel web for cracks, * * *,” the correct areas to inspect are the top and sidewall panel web. References to the inspection areas are all identified correctly in all other parts of the AD.

No other part of the regulatory information has been changed; therefore, the final rule is not republished in the Federal Register.

The effective date of this AD remains May 10, 2005.

PART 39—[AMENDED]

§ 39.13 [Corrected]

In the Federal Register of April 25, 2005, on page 21144, in the second column, paragraph (i) of AD 2005-09-02 is corrected to read as follows:

* * * * *

(i) Do a UT inspection of the top and sidewall panel webs for cracks, in accordance with Boeing ASB 747-53A2465, Revision 4, dated February 24, 2005, at the later of the times specified in paragraphs (i)(l) and (i)(2) of this AD. Repeat the inspections thereafter at intervals not to exceed 500 flight cycles.

* * * * *

Issued in Renton, Washington, on May 16, 2005.
Michael J. Kaszycki,
Acting Manager, Transport Airplane Directorate, Aircraft Certification Service.

[FR Doc. 05-10424 Filed 5-24-05; 8:45 am]

BILLING CODE 4910-13-P